DEPARTMENT OF THE INTERIOR

Bureau of Land Management

[LLNV9330000.L14300000.ET0000; NVN-50818; 10-08807; MO:4500011433; TAS:14X1109]

Public Land Order No. 7738; Extension of Public Land Order No. 6760, Nevada

AGENCY: Bureau of Land Management, Interior.

ACTION: Public land order.

SUMMARY: This order extends a withdrawal created by Public Land Order No. 6760 for an additional 20-year period. This extension is necessary to continue protection of the Federal investment in the U.S. Forest Service Austin Administrative Site in Lander County, Nevada. The administrative site is located within the Humboldt-Toiyabe National Forest.

DATES: Effective Date: December 29, 2009.

FOR FURTHER INFORMATION CONTACT: Jacqueline Gratton, Bureau of Land Management, Nevada State Office, P.O. Box 12000, 1340 Financial Blvd., Reno, Nevada 89502; or 775-861-6532.

SUPPLEMENTARY INFORMATION: The purpose for which the withdrawal was first made requires this extension to continue protection of the Federal investment in the Austin Administrative Site. The withdrawal extended by this order will expire on December 28, 2029, unless, as a result of a review conducted prior to the expiration date pursuant to Section 204(f) of the Federal Land Policy and Management Act of 1976, 43 U.S.C. 1714(f), the Secretary determines that the withdrawal shall be further extended.

Order

By virtue of the authority vested in the Secretary of the Interior by Section 204 of the Federal Land Policy and Management Act of 1976, 43 U.S.C. 1714, it is ordered as follows:

Public Land Order No. 6760 (54 FR 53612, (1989)), which withdrew 30 acres of National Forest System land from location under the United States mining laws (30 U.S.C. Ch. 2), but not the mineral leasing laws, to protect the Federal investment in the Austin Administrative Site, is hereby extended for an additional 20-year period until December 28, 2029.

(Authority: 43 CFR 2310.4)

Dated: December 18, 2009.
Wilma A. Lewis,
Assistant Secretary—Land and Minerals Management.

[FR Doc. E9-31213 Filed 12-30-09; 11:15 am]

BILLING CODE 3410-11-P